DEPARTMENT OF ENERGY

Federal Energy Regulatory Commission

Combined Notice of Filings #1

June 9, 2006.

Take notice that the Commission received the following electric rate filings:

Docket Numbers: ER06-1070-000.

Applicants: New England Power Pool Participants Committee.

Description: New England Power Pool Participants Committee submits a counterpart signature page of the New England Power Pool Agreement, to expand NEPOOL membership to include Cinergy Marketing & Trading LP.

Filed Date: 6/1/2006.

Accession Number: 20060607-0087.

Comment Date: 5 p.m. Eastern Time on Thursday, June 22, 2006.

Docket Numbers: ER06-1071-000.

Applicants: Kuehne Chemical Company, Inc.

Description: Kuehne Chemical Co Inc submits a petition for acceptance of its initial tariff, Original Volume No. 1, waivers, and blanket authority.

Filed Date: 6/1/2006.

Accession Number: 20060607-0088.

Comment Date: 5 p.m. Eastern Time on Thursday, June 22, 2006.

Docket Numbers: ER06-1072-000.

Applicants: South Carolina Electric & Gas Company.

Description: South Carolina Electric & Gas Co submits a Facilities Agreement with the Town of Winnsboro, SC.

Filed Date: 6/2/2006.

Accession Number: 20060607-0086.

Comment Date: 5 p.m. Eastern Time on Friday, June 23, 2006.

Docket Numbers: ER06-1075-000.

Applicants: Carolina Power & Light Company.

Description: Carolina Power & Light Co dba Progress Energy Carolinas Inc submits a Partial Requirements Service Agreement with Piedmont Electric Membership Corp, Rate Schedule No. 172.

Filed Date: 6/1/2006.

Accession Number: 20060607-0081.

Comment Date: 5 p.m. Eastern Time on Thursday, June 22, 2006.

Docket Numbers: ER06-1076-000.

Applicants: Indiana Michigan Power Company; American Electric Power Service Corporation.

Description: Indiana Michigan Power Co submits a Cost-Based Formula Rate Agreement for Full Requirements Electric Service with the City of Bluffton, Indiana.

Filed Date: 6/2/2006.

Accession Number: 20060607-0092.

Comment Date: 5 p.m. Eastern Time on Friday, June 23, 2006.

Docket Numbers: ER06-1077-000.

Applicants: Indiana Michigan Power Company; American Electric Power Service Corporation.

Description: Indiana Michigan Power Co submits a Cost-Based Formula Rate Agreement for Full Requirements Electric Service with South Haven, Michigan.

Filed Date: 6/2/2006.

Accession Number: 20060607-0093.

Comment Date: 5 p.m. Eastern Time on Friday, June 23, 2006.

Docket Numbers: ER06-1078-000.

Applicants: Indiana Michigan Power Company; American Electric Power Service Corporation.

Description: Indiana Michigan Power Co submits a Cost-Based Formula Rate Agreement for Full Requirements Electric Service with the City of Niles, Michigan.

Filed Date: 6/2/2006.

Accession Number: 20060607-0094.

Comment Date: 5 p.m. Eastern Time on Friday, June 23, 2006.

Docket Numbers: ER06-1079-000.

Applicants: Indiana Michigan Power Company; American Electric Power Service Corporation.

Description: Indiana Michigan Power Co submits a Cost-Based Formula Rate Agreement for Full Requirements Electric Service with the City of Mishawaka, Indiana.

Filed Date: 6/2/2006.

Accession Number: 20060607-0095.

Comment Date: 5 p.m. Eastern Time on Friday, June 23, 2006.

Docket Numbers: ER06-1081-000.

Applicants: Indiana Michigan Power Company; American Electric Power Service Corporation.

Description: Indiana Michigan Power Co submits a Cost Based Formula Rate Agreement for Full Requirements Electric Service with the City of Warren, Indiana.

Filed Date: 6/2/2006.

Accession Number: 20060607-0091.

Comment Date: 5 p.m. Eastern Time on Friday, June 23, 2006.

Docket Numbers: ER06-1082-000.

Applicants: Indiana Michigan Power Company; American Electric Power Service Corporation.

Description: Indiana Michigan Power Co submits a Cost-Based Formula Rate Agreement for Full Requirements Electric Service with the City of Garrett, Indiana.

Filed Date: 6/2/2006.

Accession Number: 20060607-0090.

Comment Date: 5 p.m. Eastern Time on Friday, June 23, 2006.

Docket Numbers: ER06-1083-000.

Applicants: PJM Interconnection, L.L.C.

Description: PJM Interconnection, LLC submits an Interconnection Service Agreement with Premcor Refining Group, Inc and Delmarva Power & Light Co and a notice of cancellation for an ISA that has been superseded.

Filed Date: 6/2/2006.

Accession Number: 20060607-0085.

Comment Date: 5 p.m. Eastern Time on Friday, June 23, 2006.

Docket Numbers: ER06-1084-000.

Applicants: Central Hudson Gas & Electric Corporation.

Description: Central Hudson Gas & Electric Corp submits a Notice of Cancellation of its Rate Schedule 56.

Filed Date: 6/2/2006.

Accession Number: 20060607-0084.

Comment Date: 5 p.m. Eastern Time on Friday, June 23, 2006.

Docket Numbers: ER06-1085-000.

Applicants: Deseret Generation & Transmission Co-Operative, Inc.

Description: Deseret Generation & Transmission Co-Operative, Inc. submits an Amendment to the Agreement for Large Industrial Rate with Moon Lake Electric Association, Inc.

Filed Date: 6/2/2006.

Accession Number: 20060607-0083.

Comment Date: 5 p.m. Eastern Time on Friday, June 23, 2006.

Docket Numbers: ER06-1086-000.

Applicants: American Electric Power Service Corp; Indiana and Michigan Power Company.

Description: Indiana & Michigan Power Co submits an Interconnection and Local Delivery Service Agreement with the Town of Avilla, Indiana.

Filed Date: 6/1/2006.

Accession Number: 20060607-0082.

Comment Date: 5 p.m. Eastern Time on Thursday, June 22, 2006.

Docket Numbers: ER06-1088-000.

Applicants: Entergy Services, Inc.

Description: Entergy Services, Inc acting as agent for Entergy Arkansas, Inc et al submits an annual informational filing containing the 2006 rate redetermination of its OATT.

Filed Date: 6/1/2006.

Accession Number: 20060607-0099.

Comment Date: 5 p.m. Eastern Time on Thursday, June 22, 2006.

Docket Numbers: ER06-1089-000.

Applicants: New England Power Pool.

Description: New England Power Pool Participants Committee submits counterpart signature pages of the New England Power Pool Agreement, to expand NEPOOL membership to include Deutsche Bank AG, London Branch, CAM Energy Trading, LLC, et al.

Filed Date: 6/1/2006.

Accession Number: 20060607-0080.

Comment Date: 5 p.m. Eastern Time on Thursday, June 22, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-9403 Filed 6-15-06; 8:45 am]

BILLING CODE 6717-01-P